DEPARTMENT OF ENERGY

Federal Energy Regulatory Commission

[Docket No. RP96-312-053]

Tennessee Gas Pipeline Company; Notice of Errata Filing

April 20, 2001.

Take notice that on April 17, 2001, Tennessee Gas Pipeline Company (Tennessee), tendered for filing an Errata Letter Filing in the above-referenced docket.

Tennessee states that the Errata Letter Filing contains a complete copy of a Gas Transportation Agreement between Tennessee and Virginia Power Energy Marketing, Inc. (VEPCO) pursuant to Tennessee's Rate Schedule FT-A (FT-A Service Agreement). Tennessee further states that the copy of the FT-A Service Agreement that was filed on April 11, 2001 in this docket inadvertently omitted certain pages of the agreement.

Any person desiring to protest said filing should file a protest with the Federal Energy Regulatory Commission, 888 First Street, NE., Washington, DC 20426, in accordance with § 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at

http://www.ferc.fed.us/efi/doorbell.htm.

Linwood A. Watson, Jr.,
Acting Secretary.

[FR Doc. 01-10319 Filed 4-25-01; 8:45 am]

BILLING CODE 6717-01-M